DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Coast Groundfish Rationalization Social Study.

OMB Control Number: None.

Form Number(s): NA.

Type of Request: Regular submission.

Number of Respondents: 1,125.

Average Hours per Response: Surveys, 1 hour; unstructured interviews, 30 minutes; meetings, 1 hour.

Burden Hours: 1,104.

Needs and Uses: Historically, changes in fisheries management regulations have been shown to result in impacts to individuals within the fishery. An understanding of social impacts in fisheries—achieved through the collection of data on fishing communities, as well as on individuals who fish—is a requirement under several federal laws, such as described in the National Environmental Protection Act and the Magnuson Stevens Fishery Conservation Act (as amended 2007). The collection of this data not only helps to inform legal requirements for the existing management actions, but will inform future management actions requiring equivalent information.

Fisheries rationalization programs have an impact on those individuals participating in the affected fishery. The Pacific Fisheries Management Council is on track to implement a new rationalization program for the Pacific Coast Groundfish limited entry trawl fishery in January 2011. This research aims to study the individuals in the affected fishery both prior to and after the implementation of the rationalization program. The data collected will provide a baseline description of the industry as well as allow for analysis of changes the rationalization program may create for individuals in the fishery. The measurement of these changes will lead to a greater understanding of the social impacts the management measure may have on the individuals in the fishery. To achieve these goals it is critical to collect the necessary data prior to the implementation of the rationalization program for comparison to data collected after the management program has been implemented. This study will be inclusive of both a Phase 1 pre-implementation data collection effort, as well as a Phase 2, post-implementation data collection effort to achieve the stated objectives.

Affected Public: Business or other for-profit; individuals or households.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 6, 2010.
Gwellnar Banks,
Management Analyst, Office of the Chief Information Officer.

[FR Doc. 2010-11112 Filed 5-10-10; 8:45 am]

BILLING CODE 3510-22-P